NATIONAL SCIENCE FOUNDATION

National Science Board; Sunshine Act Meetings; Notice

The National Science Board's Committee on Programs and Plans, pursuant to NSF regulations (45 CFR part 614), the National Science Foundation Act, as amended (42 U.S.C. 1862n-5), and the Government in the Sunshine Act (5 U.S.C. 552b), hereby gives notice in regard to the scheduling of a meeting for the transaction of National Science Board business and other matters specified, as follows:

DATES: February 14, 2011

Time & Subject Matter Open: 1 p.m. to 3:30 p.m.

• Approval of Open Session Minutes

• Committee Chairman's Remarks

• Discussion Item: NSB Threshold Modification CPP Impact & Next Steps

• Discussion Item: Continuing Discussion on Recompetition Policy Implementation

• Discussion Item: Proposed Revisions to Mid-Scale Task Force Charge

• NSB Information Item : Renewal of Support for Large Hadron Collider (LHC)

• NSB Information Item : Update on NEON Airborne Observation Platform

• NSB Information Item TeraGrid XD

• NSB Information Item : Incorporated Research Institutions for Seismology (IRIS)

• NSB Information Item : EPSCoR Research Infrastructure Improvement Track-1

Time and Subject Matter Closed: 3:30 p.m. to 4:15 p.m.

• Committee Chairman's Remarks

• Approval of Closed Session Minutes

• NSB Action Items: Proposed Astronomy Facility Awards

Status: Open and Closed.

Location: The open and closed session of this meeting will be in room 1295 or 1235, National Science Foundation, 4201 Wilson Blvd., Arlington, VA 22230. All visitors interested in attending the Open Session must contact the Board Office at least 24 hours prior to the meeting to arrange for a visitor's badge and obtain room location information. Call 703-292-7000 or send an e-mail message to nationalsciencebrd@nsf.gov with your name and organizational affiliation to request the room number and your badge, which will be ready for pick-up at the visitor's desk the day of the meeting. All visitors must report to the NSF visitor desk located in the lobby at the 9th and N. Stuart Streets entrance to receive your visitor's badge on the day of the teleconference.

Updates and Point Of Contact: Please refer to the National Science Board website www.nsf.gov/nsb for additional information and schedule updates (time, place, subject matter or status of meeting) may be found at http://www.nsf.gov/nsb/notices/. Point of contact for this meeting is: Elizabeth Strickland, National Science Board Office, 4201 Wilson Blvd., Arlington, VA 22230. Telephone: (703) 292-7000.

Daniel A. Lauretano,
Counsel to the National Science Board.

[FR Doc. 2011-2815 Filed 2-4-11; 11:15 am]

BILLING CODE 7555-01-P